FEDERAL COMMUNICATIONS COMMISSION

47 CFR Part 27

[WT Docket No. 19-116; FCC 19-43]

Allocation and Service Rules for the 1675-1680 MHz Band

AGENCY: Federal Communications Commission.

ACTION: Final rule.

SUMMARY: In this document, the Federal Communications Commission corrections certain typographical errors in the Commission's rules to provide the correct cross reference to the emission limits measurement procedures applicable to certain wireless communications services.

DATES: Effective May 22, 2019.

FOR FURTHER INFORMATION CONTACT: Anna Gentry, Anna.Gentry@fcc.gov, of the Wireless Telecommunications Bureau, Mobility Division, (202) 418-7769.

SUPPLEMENTARY INFORMATION: This is a summary of the Commission's Order in WT Docket No. 19-116, FCC 19-43, adopted on May 9, 2019 and released on May 13, 2019. The complete text of this document is available for viewing via the Commission's ECFS website by entering the docket number, WT Docket No. 19-116. The complete text of this document is also available for public inspection and copying from 8:00 a.m. to 4:30 p.m. Eastern Time (ET) Monday through Thursday or from 8:00 a.m. to 11:30 a.m. ET on Fridays in the FCC Reference Information Center, 445 12th Street SW, Room CY-B402, Washington, DC 20554, telephone 202-488-5300, fax 202-488-5563.

I. Order

By this Order, the Commission corrects paragraphs (j)(1) and (k) of § 27.53 of the Commission's rules ¹ to update each paragraphs' incorrect cross-reference to the section's paragraph (a)(4). The Commission had inadvertently failed to update those cross-references in 2010 when it renumbered paragraph (a)(4) as (a)(5). Section 27.53 addresses the emission limits for various Part 27 services, and, according to the current language of paragraphs (j)(1) and (k), compliance with the emission limits for the bands identified in those paragraphs “is based on the procedures described in paragraph (a)(4) of this [S]ection.” ² Paragraph (a)(4), however, does not contain any such procedures; rather, it sets forth wattage amounts by which the power of certain emissions must be attenuated. The next subparagraph in paragraph (a)—i.e., paragraph (a)(5)—is entitled “Measurement procedure” and contains the compliance procedures that paragraphs (j) and (k) had referenced before the Commission added paragraph (a)(4) in 2010.³ At that time, when the Commission renumbered the old paragraph (a)(4) as (a)(5) to accommodate the new paragraph (a)(4), it neglected to update the paragraphs (j)(1) and (k) cross-reference to the provision that had been renumbered as paragraph (a)(5). And since that time, paragraphs (j)(1) and (k) have continued to refer incorrectly to paragraph (a)(4) as containing the measurement procedures for compliance, rather than paragraph (a)(5). The Commission therefore corrects this error by amending paragraphs (j)(1) and (k) to change the cross-reference to paragraph (a)(5).

¹ 47 CFR 27.53(j)(1), (k).

² Id.

³ Amendment of Part 27 to Govern the Operation of Wireless Communications Services in the 2.3 GHz Band, 25 FCC Rcd 11710, 11845 (2010), Appendix B.

The Commission finds it appropriate to forego a notice-and-comment period prior to this Order taking effect, given the administrative nature and limited impact of this rule correction. The Administrative Procedure Act (APA) provides that notice procedures are not required where “the agency for good cause finds (and incorporates the finding and a brief statement of reasons therefor in the rules issued) that notice and public procedure thereon are impracticable, unnecessary, or contrary to the public interest.” ⁴ Here, the Commission finds, for good cause, that using such procedure to correct an outdated cross-reference in paragraphs (j)(1) and (k) of § 27.53—an inadvertent error that arose out of the failure to make a ministerial adjustment to the cross-reference when the subparagraphs of that section's paragraph (a) were renumbered—is unnecessary and contrary to the public interest because it would needlessly prolong an obvious inaccuracy in the rules, delay the return of the rules' language to its clearly intended meaning, and fail to yield any of the public interest benefits that notice and comment procedures are designed to produce. The APA also requires publication of a substantive rule at least 30 days before its effective date “except as otherwise provided by the agency for good cause found and published with the rule.” ⁵ For the same reasons that the Commission foregoes notice-and-comment procedures, the Commission finds good cause to make this correction to § 27.53(j)(1) and (k) effective immediately upon publication in the Federal Register.

⁴ 5 U.S.C. 553(b)(B).

⁵ Id. § 553(d)(3).

List of Subjects in 47 CFR Part 27

Communications common carriers, Radio, Reporting and recordkeeping requirements.

Federal Communications Commission.
Marlene Dortch,
Secretary.

For reasons discussed in the preamble, the Federal Communications Commission amends 47 CFR part 27 as follows:

PART 27—MISCELLANEOUS WIRELESS COMMUNICATIONS SERVICES

1. The authority citation for part 27 continues to read as follows:

Authority: 47 U.S.C. 154, 301, 302a, 303, 307, 309, 332, 336, 337, 1403, 1404, 1451, and 1452, unless otherwise noted.

2. Section 27.53 is amended by revising paragraphs (j)(1) and (k) to read as follows:

§ 27.53 Emission limits.

* * * * *

(j)(1) For operations in the unpaired 1390-1392 MHz band and the paired 1392-1395 MHz and 1432-1435 MHz bands, the power of any emission outside the licensee's frequency band(s) of operation shall be attenuated below the transmitter power (P) by at least 43 + 10 log (P) dB. Compliance with these provisions is based on the procedures described in paragraph (a)(5) of this section.

* * * * *

(k) For operations in the 1670-1675 MHz, the power of any emission outside the licensee's frequency band(s) of operation shall be attenuated below the transmitter power (P) by at least 43 + 10 log (P) dB. Compliance with these provisions is based on the procedures described in paragraph (a)(5) of this section.

* * * * *

[FR Doc. 2019-10666 Filed 5-21-19; 8:45 am]

BILLING CODE 6712-01-P